DEPARTMENT OF HOUSING AND URBAN DEVELOPMENT

48 CFR Parts 2401, 2402, 2403, 2409, 2413, 2414, 2415, 2416, 2419, 2424, 2425, 2426, 2428, 2432, 2433, 2436, 2437, 2439, 2442, 2446, 2451, 2452 and 2453

[Docket No. FR-4115-F-03]

RIN 2435-AA24

HUD Acquisition Regulation; Miscellaneous Revisions

AGENCY: Office of the Chief Procurement Officer (CPO), DHUD.

ACTION: Final rule.

SUMMARY: This rule amends the Department of Housing and Urban Development (HUD) Acquisition Regulation (HUDAR) to implement changes made to the Federal Acquisition Regulation since the HUDAR's last issuance, and implement requirements of the Federal Acquisition Reform Act of 1996.

DATES: Effective Date: February 22, 2000.

FOR FURTHER INFORMATION CONTACT: Frederick Graves, Policy and Field Operations Division, Office of Procurement and Contracts (Seattle Outstation), U.S. Department of Housing and Urban Development, Seattle Federal Office Building, 909 1st Avenue, Seattle, WA 98104-1000, telephone (206) 220-5122 extension 3450, FAX (206) 220-5406. Persons with hearing or speech impairments may access that number via TTY by calling the Federal Information Relay Service at (800) 877-8339.

SUPPLEMENTARY INFORMATION: On August 23, 1999, at 64 FR 46092, the Department of Housing and Urban Development (HUD) published an interim rule making miscellaneous changes to the HUD Acquisition Regulation (HUDAR). No comments were received on the interim rule during the 60-day public comment period. Therefore, except for several technical corrections discussed immediately below, the interim rule is adopted as final without change.

In section 2415.304, paragraph (d)(3) is deleted in this final rule. The inclusion of this paragraph in the interim rule was a typographical error. The same text was correctly included as paragraph (a)(3) of section 2415.303 in the interim rule.

Section 2415.613-72 is removed. Sections 2415.613-70 and 2415.613-71, which dealt with HUD's alternative selection process, were removed in the interim rule. The related section 2415.613-72 should have been removed as well.

Subpart 2415.10 is redesignated as Subpart 2415.5. The subpart title is unchanged. The redesignation was erroneously omitted from the interim rule.

Section 2426.703 is redesignated as 2426.7003. Sections 2426.701 and 2426.702 were redesignated 2426.7001 and 2426.7002 respectively in the interim rule, and section 2426.703 should have been likewise redesignated.

The following sections are added to designate HUD officials to act on behalf of the agency head for the purposes of various sections of the FAR. These designations implement the relevant sections of the FAR cited in the new sections and were erroneously omitted from the interim rule: 2432.114, 2432.201, 2432.407, 2432.703-3 and 2432.903.

Subpart 2451.3 was redesignated as 2451.70 in the interim rule. The title should have also been revised. The new title is included in this final rule.

In Section 2452.215-70, the reference to HUDAR 2415.407(a) is corrected to read 2415.209(a). Section 2415.407 was redesignated as 2415.209 in the interim rule. In the interim rule, Alternates I and II to 2452.215-70 were revised to reflect the change in citation, and their dates were changed accordingly. Therefore, the date of the basic provision should also be “OCT 1999.”

Section 2452.226-70 is revised to correct the HUDAR citation in the first sentence from 2426.222-703 to 2426.222-7003. This correction was erroneously omitted from the interim rule.

Findings and Certifications

Unfunded Mandates Reform Act

The Secretary has reviewed this rule before publication and by approving it certifies, in accordance with the Unfunded Mandates Reform Act of 1995 (2 U.S.C. 1532), that this rule does not impose a Federal mandate that will result in the expenditure by State, local, and tribal governments, in the aggregate, or by the private sector, of $100 million or more in any one year.

Regulatory Flexibility Act

The Secretary, in accordance with the Regulatory Flexibility Act (5 U.S.C. 605(b)), has reviewed and approved this rule, and in so doing certifies that this final rule will not have a significant economic impact on a substantial number of small entities. Small businesses were specifically invited, however, to comment on whether the interim rule would significantly affect them, and persons were invited to submit comments according to the instructions in the DATES and Comments sections in the preamble of the interim rule. No comments were received.

Paperwork Reduction Act

The information collection requirements contained in the HUDAR have been approved by the Office of Management and Budget (OMB) in accordance with the Paperwork Reduction Act of 1995 (44 U.S.C. 3501-3520), and have been assigned OMB approval number 2535-0091. An agency may not conduct or sponsor, and a person is not required to respond to, a collection of information unless the collection displays a valid control number.

Environmental Impact

In accordance with 40 CFR 1508.4 of the regulations of the Council on Environmental Quality and 24 CFR 50.19(c)(1) of the HUD regulations, the policies and procedures in this document are not subject to the individual compliance requirements of the authorities cited in 24 CFR 50.4, and, therefore, are categorically excluded from the requirements of the National Environmental Policy Act of 1969. Accordingly, a Finding of No Significant Impact is not required.

Executive Order 13132, Federalism

This final rule does not have federalism implications and does not impose substantial direct compliance costs on State and local governments or preempt State law within the meaning of Executive Order 13132 (entitled “Federalism”).

Executive Order 13045, Protection of Children from Environmental Health Risks and Safety Risks

This rule will not pose an environmental health risk or safety risk to children.

List of Subjects in 24 CFR Parts 2401, 2402, 2403, 2409, 2413, 2414, 2415, 2416, 2419, 2424, 2425, 2426, 2428, 2432, 2433, 2436, 2437, 2439, 2442, 2446, 2451, 2452 and 2453

Government procurement, HUD acquisition regulation.

Accordingly, title 48, Chapter 24 of the Code of Federal Regulations, is amended by adopting the interim rule published in the Federal Register on August 23, 1999 (64 FR 46092) as final with the following amendments to read as follows:

PART 2415—CONTRACTING BY NEGOTIATION

1. The authority citation for part 2415 continues to read as follows:

Authority: 40 U.S.C. 486(c); 41 U.S.C. 253; 42 U.S.C. 3535(d).

2. In Section 2415.304, paragraph (d)(3) is removed.

2415.304 [Amended]

3. The heading for subpart 2415.5 is revised to read as follows:

Subpart 2415.5—Preaward, Award, and Postaward Notifications, Protests, and Mistakes

2415.613-72 [Removed]

4. Section 2415.613-72 is removed.

2415.10 [Removed]

5. Subpart 2415.10 is removed.

PART 2426—OTHER SOCIOECONOMIC PROGRAMS

6. The authority citation for part 2426 continues to read as follows:

Authority: 40 U.S.C. 486(c); 42 U.S.C. 3535(d).

2426.703 [Redesignated as 2426.7003]

7. Section 2426.703 is redesignated as 2426.7003.

PART 2432—CONTRACT FINANCING

8. The authority citation for part 2432 continues to read as follows:

Authority: 31 U.S.C. 3901-3906; 40 U.S.C. 486(c); 42 U.S.C. 3535(d).

9. A new subpart 2432.1 and a new section 2432.114 are added to read as follows:

Subpart 2432.1—Non-Commercial Item Purchase Financing

2432.114 Unusual contract financing.

The Senior Procurement Executive is the agency had for the purpose of FAR 32.114.

10. A new subpar 2432.2 and a new section 2432.201 is added to read as follows:

Subpart 2432.2—Commercial Item Purchase Financing

2432.201 Statutory authority.

The head of the contracting activity is the agency head for the purpose of FAR 32.201.

11. A new section 2432.407 is added to read as follows:

2432.407 Interest.

(d) The Senior Procurement Executive is the agency head's designee for the purposes of FAR 32.407(d).

12. A new subpart 2432.7 and a new section 2432.703-3 is added to read as follows:

Subpart 2432.7—Contract Funding

2432.703-3 Contracts crossing fiscal years.

(b) The contracting officer may enter into a contract, exercise an option, or place an order under a contract for severable services for a period that begins in one fiscal year and ends in the next fiscal year if the period of the contract awarded, option exercised, or order placed does not exceed one year.

13. A new section 2432.903 is added to read as follows:

2432.903 Policy.

The Senior Procurement Executive is the agency head's designee for the purposes of FAR 32.903(b).

14. The heading for subpart 2451.70 is revised to read as follows:

Subpart 2451.70 Contractor Use of Government Discount Travel Rates.

PART 2452—SOLICITATION PROVISIONS AND CONTRACT CLAUSES

15. The authority citation for part 2452 continues to read as follows:

Authority: 40 U.S.C. 486(c); 42 U.S.C. 3535(d).

16. In Section 2452.215-70, the first sentence and provision date are revised to read as follows:

2452.215-70 Proposal Content.

As prescribed in 2415.209(a), insert a provision substantially the same as the following:

Proposal Content (Feb. 2000)

* * * * *

2452.226-70 [Amended]

17. In section 2452.226-70, the reference to “2426.703” in the first sentence is revised to read “2426.222-7003.”

Dated: December 30, 1999.
V. Stephen Carberry,
Chief Procurement Officer.

[FR Doc. 00-532 Filed 1-20-00; 8:45 am]

BILLING CODE 4210-01-P